DEPARTMENT OF ENERGY

Federal Energy Regulatory Commission

Notice of Jurisdictional Review and Soliciting Comments, Protests and/or Motions To Intervene

June 12, 2003.

Take notice that the following review has been initiated by the Commission:

a. Review Type: Jurisdictional Review.

b. Docket Nos.: JR02-1-000 and Project No. 11857.

c. Owner: Puget Sound Hydro LLC.

d. Name of Project: Nooksack Falls Hydroelectric Project.

e. Location: The project is located on the North Fork of the Nooksack River, near the town of Glacier, in Whatcom County, Washington (T. 39 N., R. 7 E., T. 40 N., Rs. 7 & 8 E., Willamette Meridian).

f. Owner Contact: Michael A. Swiger, Van Ness Feldman, 1050 Thomas Jefferson Street, NW., Washington DC 20007-3877, telephone number (202) 298-1891.

g. FERC Contact: Any questions on this notice should be addressed to Henry Ecton (202) 502-8768, or e-mail address: henry.ecton@ferc.gov.

h. Deadline for filing comments, protests, and/or motions to intervene: ¹ July 14, 2003.

¹ On March 20, 2003, the Commission Secretary issued a Notice of Availability of Draft Navigation Study in new Docket No. JR01-1, inviting comments. This notice established a proceeding, but did not invite motions to intervene. Motions to intervene in Docket No. JR02-1 were nevertheless filed on April 9, 2003, by Welcome Springs and on April 18, 2003, by American Whitewater. The instant Notice of Unlicensed Project Review in essence amends the March 20, 2003 notice to invite motions to intervene by the deadline specified. Although the two motions to intervene were filed before issuance of the notice inviting intervention, they were timely (see, e.g., Halecrest Co., 38 FERC ¶ 61,312 (1987)) and were automatically granted 15 days after they were filed (see 18 CFR 385.214(c)).

All documents (original and eight copies) should be filed with: Magalie R. Salas, Secretary, Federal Energy Regulatory Commission, 888 First Street, NE., Washington, DC 20426. Comments, protests, and/or interventions may be filed electronically via the Internet in lieu of paper. Any questions, please contact the Secretary's Office. See 18 CFR 385.2001(a)(1)(iii) and the instructions on the Commission's Web site at http://www.ferc.gov.

Please include the docket numbers (JR02-1-000 and Project No. 11857) on any comments, protests, and/or motions to intervene filed.

i. Pursuant to Section 23(b)(1) of the Federal Power Act ( FPA), 16 U.S.C. 817(1), a non-federal hydroelectric project must (unless it has a still-valid pre-1920 federal permit) be licensed if it is located on a navigable water of the United States; occupies lands of the United States; utilizes surplus water or water power from a government dam; or is located on a body of water over which Congress has Commerce Clause jurisdiction, project construction occurred on or after August 26, 1935, and the project affects the interests of interstate or foreign commerce.

j. Individuals desiring to be included on the Commission's mailing list should so indicate by writing to the Secretary of the Commission.

k. Protests, Comments, and/or Motions to Intervene—Anyone may submit comments, a protest, or a motion to intervene in accordance with the requirements of Rules of Practice and Procedure, 18 CFR 385.210, .211, .214. In determining the appropriate action to take, the Commission will consider all protests, but only those who file a motion to intervene in accordance with the Commission's Rules may become a party to the proceeding. Any comments, protests and/or motions to intervene must be received on or before the specified comment date for the particular application.

l. Filing and Service of Responsive Documents—Any filings must bear in all capital letters the title “COMMENTS”, “PROTESTS”, AND/OR “MOTIONS TO INTERVENE”, as applicable, and the Docket Numbers of the particular review.

m. Agency Comments: Federal, state, and local agencies are invited to file comments on the described review. If an agency does not file comments within the time specified for filing comments, it will be presumed to have no comments.

Magalie R. Salas,
Secretary.

[FR Doc. 03-15425 Filed 6-18-03; 8:45 am]

BILLING CODE 6717-01-P